DEPARTMENT OF HEALTH AND HUMAN SERVICES

Health Resources and Services Administration

Agency Information Collection Activities: Proposed Collection: Public Comment Request; Bureau of Primary Health Care Uniform Data System, OMB No. 0915-0193—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than July 5, 2017.

ADDRESSES: Submit statements and comments to paperwork@hrsa.gov or by mail to the HRSA Information Collection Clearance Officer, 5600 Fishers Lane, Room 10-29, 14N39 Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Bureau of Primary Health Care Uniform Data System, OMB No. 0915-0193—Revision.

Abstract: The Uniform Data System (UDS) is the Bureau of Primary Health Care's (BPHC) annual reporting system for HRSA-supported health centers. UDS includes reporting requirements for Health Center Program look-alikes and grantees of the following: Community Health Center program, Migrant Health Center program, Health Care for the Homeless program, and Public Housing Primary Care program. A subset of recipients of the Bureau of Health Workforce's (BHW) Nurse Education, Practice, Quality and Retention (NEPQR) program, specifically those recipients that are funded under the practice priority areas listed under Public Health Service Act (PHSA) Section 831(b), are also required to complete UDS annual reporting.

Need and Proposed Use of the Information: HRSA collects UDS data annually to ensure compliance with legislative and regulatory requirements, improve health center performance and operations, and report overall program accomplishments. The data help to identify trends, enabling HRSA to establish or expand targeted programs and identify effective services and interventions to improve the health of medically underserved communities and vulnerable populations. UDS data are compared with national health-related data, including the National Health Interview Survey and National Health and Nutrition Examination Survey, to explore potential differences between health center patient populations and the U.S. population at large, and those individuals and families who rely on the health care safety net for primary care. UDS data also inform Health Center Program partners and communities regarding the patients served by health centers. BHW uses the patient and provider-level data to determine the impact of health care services on patient outcomes. The data also enables BHW to establish or expand targeted programs and identify effective services and interventions to improve the health of underserved communities and vulnerable populations. In addition, the UDS data are useful to a subset of BHW recipients of the NEPQR program for performance and operations improvement, patient forecasts, identification of trends/patterns, implication of access barriers, and cost analysis to support long-term sustainability.

The UDS data collection for 2018 will be revised in three ways. To support continued efforts to standardize data collection and reduce the burden per respondent of reporting for health centers, the measures stated below will be updated, where necessary, to align with Centers for Medicare & Medicaid Services electronic clinical quality measures (CMS e-CQMs) designated for the 2018 reporting period. Specifically:

• Poor glycemic control is defined as HbA1c > 9% per the CMS Meaningful Use and e-specifications.” Therefore, HRSA is removing this column to be consistent with the Healthy People 2020 national benchmark and CMS and to reduce reporting burden.

• Patient Centered Medical Home (PCMH) recognition assesses a health center's approach to patient-centered care. HRSA collects PCMH data on a quarterly basis outside of UDS. Therefore, HRSA is removing this question to reduce reporting burden.

• Telehealth is increasingly used as a method of health care delivery for the health center patient population, especially those hard-to-reach patients living in geographically isolated communities. Collecting information on telehealth capacity and use of telehealth is essential for (1) the delivery of technical assistance for health centers and (2) improving the health of the nation's underserved communities and vulnerable populations by assuring access to comprehensive, culturally competent, quality primary health care services. Based on the uniqueness of telehealth data and its introduction into the UDS system, HRSA is proposing more robust questions to better capture this data.

Likely Respondents: Respondents are HRSA BPHC Health Center Program grantees, look-alikes, and BHW NEPQR Program recipients.

Burden Statement: Burden includes the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. While the overall burden estimate is increasing due to an increase in the number of respondents, the proposed revisions will result in a reduction in burden per respondent due to the removal of two questions and the modification of a third set of questions. The total annual burden hours estimated for this ICR are summarized in the table below.

Total Estimated Annualized Burden Hours
Form name | Number of respondents | Number of responses per respondent | Total responses | Average burden per response (in hours) | Total burden hours
Universal Report | 1,477 | 1 | 1,477 | 169 | 249,613
Grant Report | 498 | 1 | 498 | 21 | 10,458
Total | 1,975 |  | 1,975 |  | 260,071

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Jason E. Bennett,
Director, Division of the Executive Secretariat.

[FR Doc. 2017-09086 Filed 5-4-17; 8:45 am]

BILLING CODE 4165-15-P